DEPARTMENT OF HOMELAND SECURITY

Coast Guard

[USCG-2007-28520]

Towing Safety Advisory Committee

AGENCY: Coast Guard, DHS.

ACTION: Notice of open teleconference meeting.

SUMMARY: This notice announces a teleconference of the Towing Safety Advisory Committee (TSAC). The purpose of the teleconference is for TSAC to discuss and prepare recommendations for the Coast Guard concerning its Notice of Proposed Rulemaking (NPRM) on the Transportation Worker Identification Credential (TWIC) Biometric Reader Requirements.

DATES: The teleconference call will take place on Tuesday, July 17th, 2007, from 9 a.m. until noon Eastern Daylight Savings Time.

ADDRESSES: Committee members and members of the public may participate by dialing 1-866-917-9053 on a touch-tone phone. You will then be prompted to enter your “participant code number,” which is 5344122#. Please ensure that you enter the # mark after the participant code. Public participation is welcomed; however, the number of teleconference lines is limited, and lines are available first-come, first-served. Members of the public may also participate by coming to Room 3317 U.S. Coast Guard Headquarters; 2100 Second Street, SW.; Washington, DC 20593-0001. We request that members of the public who plan to attend this meeting notify Mr. Gerald Miante at 202-372-1407 so that he may notify building security officials. You may also gain access to this docket at http://dms.dot.gov/search/searchFormSimple.cfm. The task statement may be accessed as a supplement to this docket.

FOR FURTHER INFORMATION CONTACT: Mr. Gerald Miante, Assistant Executive Director of TSAC, telephone 202-372-1407, fax 202-372-1426.

SUPPLEMENTARY INFORMATION: The Federal Advisory Committee Act requires that public notice of these meetings be announced in the Federal Register [5 U.S.C. App. (Pub. L. 92-463)]. TSAC is chartered under that Act. It provides advice and makes recommendations to the Secretary on issues regarding shallow-draft inland and coastal waterway navigation and towing safety.

Tentative Agenda

Tuesday, July 17th, 2007

9 a.m.-9:05 a.m.

Welcome and Opening Remarks —TSAC Chairman Mr. Mario Muñoz.

9:05 a.m.-11 a.m.

Open discussion concerning the Transportation Worker Identification Credential (TWIC) Biometric Reader Requirements.

11a.m.-11:15 a.m.

Public comment period.

11:15 a.m.-12 noon

TSAC vote on recommendations for the Coast Guard.

12 noon

Adjourn.

This tentative agenda is subject to change and the meeting may adjourn early if all Committee business has been completed.

Public Participation

The Chairman of TSAC is empowered to conduct the teleconference in a way that will, in his judgment, facilitate the orderly conduct of business. During its teleconference, the Committee welcomes public comment. The Committee will make every effort to hear the views of all interested parties, including the public. Written comments may be submitted to Mr. Gerald Miante, Assistant Executive Director, TSAC; Commandant (CG-3PSO-1); 2100 Second Street, SW.; Washington, DC 20593-0001.

Information on Services for Individuals With Disabilities

For information on facilities or services for individuals with disabilities or to request special assistance at the meeting, contact Mr. Miante as soon as possible.

Dated: June 25, 2007.
H.L. Hime,
Acting Director of National and International Standards, Assistant Commandant for Prevention.

[FR Doc. E7-12689 Filed 6-29-07; 8:45 am]

BILLING CODE 4910-15-P